DEPARTMENT OF ENERGY

Federal Energy Regulatory Commission

[Docket No. RP08-403-000]

Atmos Energy Marketing, LLC, BP Energy Company, Delta Energy, LLC, Direct Energy, Hess Corporation, Honda of America Mfg., Inc., Integrys Energy Services, Inc., Interstate Gas Supply, Inc., National Energy Marketers Association, Ohio Farm Bureau Federation, Sequent Energy Management, L.P., Complainants, v. Columbia Gas Transmission Corporation, Respondent; Notice of Complaint

June 9, 2008.

Take notice that on June 6, 2008, pursuant to sections 4 and 5 of the Natural Gas Act, 15 U.S.C. 717c, Part 154 of the Commission's Regulations, Subpart G of Part 284 of the Commission Regulations, specifically sections 284.222(g) and 284.222(h), and Rule 206 of the Rules and Practice and Procedure, 18 CFR 385.206, Atmos Energy Marketing, LLC, BP Energy Company, Delta Energy, LLC, Direct Energy, Hess Corporation, Honda of America Mfg., Inc., Interstate Gas Supply, Inc., National Energy Marketers Association, Ohio Farm Bureau Federation, and Sequent Energy Management, L.P. (Complainants) filed a formal complaint against Columbia Gas Transmission Corporation (Respondent), requesting the Commission to direct the Respondent to cease and desist from implementing unilaterally substantial changes to its current primary delivery points under currently effective contracts and new services, though actions that are not authorized under its tariff and are contrary to law.

The Complainants further request emergency relief to require the Respondent to cease and desist from unilaterally compelling its firm shippers to amend the primary delivery points under their contracts by establishing an arbitrary deadline of July 31, 2008, for making elections for service at the new primary delivery points, or otherwise face the potential inability to continue to receive firm services in accordance with their currently effective contracts.

The Complainants have requested fast track processing of the complaint.

The Complainants state that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests, must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 20, 2008.

Kimberly D. Bose,
Secretary.

[FR Doc. E8-13413 Filed 6-13-08; 8:45 am]

BILLING CODE 6717-01-P